DEPARTMENT OF TRANSPORTATION

Federal Aviation Administration

Notice of Intent To Rule on Application To Impose and Use the Revenue From a Passenger Facility Charge (PFC) at Cincinnati/Northern Kentucky International Airport, Covington, Kentucky

AGENCY: Federal Aviation Administration (FAA), DOT.

ACTION: Notice of intent to rule on application.

SUMMARY: The FAA proposes to rule and invites public comment on the application to impose and use the revenue from a PFC at Cincinnati/Northern Kentucky International Airport under the provisions of the Aviation Safety and Capacity Expansion Act of 1990 (Title IX of the Omnibus Budget Reconciliation Act of 1990) (Public Law 101-508) and part 158 of the Federal Aviation Regulations (14 CFR part 158).

DATES Comments must be received on or before October 22, 2001.

ADDRESSES: Comments on this application may be mailed or delivered in triplicate to the FAA at the following address: Memphis Airports District Office, 3385 Airways Boulevard, Suite 302, Memphis, Tennessee 38116-3841.

In addition, one copy of any comments submitted to the FAA must be mailed or delivered to Mr. Robert F. Holscher, Director of Aviation of the Kenton County Airport Board at the following address: PO Box 752000, Cincinnati, Ohio 45275-2000.

Air carriers and foreign air carriers may submit copies of written comments previously provided to the Kenton County Airport Board under section 158.23 of part 158.

FOR FURTHER INFORMATION CONTACT: Mr. Jerry O. Bowers, Program Manager, Memphis Airports District Office, 3385 Airways Boulevard, Suite 302, Memphis, Tennessee 38116-3841, (901) 544-3495, Extension 21. The application may be reviewed in person at this same location.

SUPPLEMENTARY INFORMATION: The FAA proposes to rule and invites public comment on the application to impose and use the revenue from a PFC at Cincinnati/Northern Kentucky International Airport under the provisions of the Aviation Safety and Capacity Expansion Act of 1990 (Title IX of the Omnibus Budget Reconciliation Act of 1990) (Public Law 101-508) and Part 158 of the Federal Aviation Regulations (14 CFR part 158).

On September 12, 2001, the FAA determined that the application to impose and use the revenue from a PFC submitted by Kenton County Airport Board was substantially complete within the requirements of section 158.25 of part 158. The FAA will approve or disapprove the application, in whole or in part, no later than December 26, 2001.

The following is a brief overview of the application.

PFC Application No.: 01-07-C-00-CVG.

Level of the proposed PFC: $3.00.

Proposed charge effective date: March 1, 2002.

Proposed charge expiration date: March 1, 2003.

Total estimated net PFC revenue: $27,638,000.

Brief description of proposed project(s): (1) Concourse C Improvements—(a) South Infill Expansion and (b) North Infill Expansion and Entry and Canopy Renovation; (2) Deicing System Enhancements—(a) Instream Treatment System Engineering and Design and (b) Glycol Processing and Recycling Facility; (3) Runway 27 Safety Zone Improvements—(a) Realign Taxiway “M” and Relocate Taxiway “M4” and (b) Displace Runway 27 Threshold; (4) Taxiway “M” Extension and Connecting Taxiways; (5) Taxiway “N” extension; (6) Aircraft Rescue and Fire Fighting Building (Phase 1); and (7) Planning Study Updates—(a) Airport Master Plan Update (2002) and (b) part 150 Study Update (2003).

Class or classes of air carriers which the public agency has requested not be required to collect PFCs: (1) FAR part 121 supplemental operators which operate at the Airport without an operating agreement with the Board and enplane less than 1,500 passengers per year and (2) part 135 on-demand air taxis, both fixed wing and rotary.

Any person may inspect the application in person at the FAA office listed above under FOR FURTHER INFORMATION CONTACT.

In addition, any person may, upon request, inspect the application, notice and other documents germane to the application in person at the Kenton County Airport Board.

Issued in Memphis, Tennessee on September 12, 2001.
LaVerne F. Reid,
Manager, Memphis Airports District Office South Region.

[FR Doc. 01-23569 Filed 9-20-01; 8:45 am]

BILLING CODE 4910-13-M